DEPARTMENT OF COMMERCE

International Trade Administration

[C-533-825]

Polyethylene Terephthalate Film, Sheet, and Strip From India: Final Results of Expedited Five-Year (Sunset) Review of the Countervailing Duty Order

AGENCY: Import Administration, International Trade Administration, Department of Commerce.

SUMMARY: On June 1, 2007, the Department of Commerce (the Department) published in the Federal Register the notice of initiation of the first five-year sunset review of the countervailing duty order on polyethylene terephthalate (PET) film from India, pursuant to section 751(c) of the Tariff Act of 1930, as amended (the Act). See Initiation of Five-Year (“Sunset”) Reviews, 72 FR 30544 (June 1, 2007) (Initiation). On the basis of notices of intent to participate and adequate substantive responses filed on behalf of domestic interested parties, and inadequate responses from respondent interested parties (in this case, neither the Government of India nor any of the respondent companies covered by the order provided a response), the Department conducted an expedited sunset review of these orders pursuant to section 751(c)(3)(B) of the Act and 19 CFR 351.218(e)(1)(ii)(B) and (C). As a result of this sunset review, the Department finds that revocation of the countervailing duty order is likely to lead to continuation or recurrence of countervailable subsidies at the levels indicated in the “Final Results of Review” section of this notice.

DATES: Effective Dates: October 9, 2007.

FOR FURTHER INFORMATION CONTACT: Elfi Blum or Dana Mermelstein, AD/CVD Operations, Office 6, Import Administration, International Trade Administration, U.S. Department of Commerce, 14th Street and Constitution Ave., NW., Washington, DC 20230; telephone: (202) 482-0197 or (202) 482-1391, respectively.

SUPPLEMENTARY INFORMATION:

Background

On June 1, 2007, the Department initiated the first sunset review of the countervailing duty order on PET film from India, pursuant to section 751(c) of the Act. See Initiation, 72 FR 30544. The Department received notices of intent to participate from DuPont Teijin Films (DuPont), Mitsubishi Polyester Film of America (MFA), SKC, Inc. (SKC), and Toray Plastics (America), Inc. (TPA) (collectively, domestic interested parties), within the deadline specified in 19 CFR 351.218(d)(1)(i). Domestic interested parties claimed interested party status as U.S. producers engaged in the manufacture, production, or wholesale of PET film in the United States, pursuant to section 771(9)(C) of the Act. On June 15, 2007, respondent, Garware Polyester Ltd. (Garware) notified the Department of its interest in participating in this sunset review.

On July 2, 2007, the Department received a substantive response from domestic interested parties within the deadline specified in 19 CFR 351.218(d)(3)(i). The Department did not receive any substantive responses from any respondent interested party to this proceeding. Although Garware notified the Department of its interest in participating in the review, it did not file a substantive response. In accordance with 19 CFR 351.218(e)(1)(ii)(C)(1), the Department notified the International Trade Commission (ITC) that respondent interested parties to the CVD order on PET film from India, provided inadequate responses to the Initiation, 72 FR 30544. The Department, therefore, has conducted an expedited sunset review of the countervailing duty order, pursuant to 19 CFR 351.218(e)(1)(ii)(B) and (C)(2).

Since the publication of the countervailing duty order, there have been three completed administrative reviews of this order. See Notice of Countervailing Duty Order: Polyethylene Terephthalate Film, Sheet, and Strip (PET Film) from India, 67 FR 44179 (July 1, 2002). There have been no requests for scope clarifications and no changed circumstances reviews.

Scope of the Order

The products covered by this order are all gauges of raw, pretreated, or primed polyethylene terephthalate film, sheet and strip (PET film), whether extruded or coextruded. Excluded are metallized films and other finished films that have had at least one of their surfaces modified by the application of a performance-enhancing resinous or inorganic layer of more than 0.00001 inches thick. Imports of PET film were classifiable in the Harmonized Tariff Schedule of the United States (HTSUS) under item number 3920.62.00. Effective July 1, 2003, the HTSUS subheading 3920.62.00.00 was divided into 3920.62.00.10 (metallized PET film) and 3920.62.00.90 (non-metallized PET film). HTSUS subheadings are provided for convenience and customs purposes. The written description of the scope of this order is dispositive.

Analysis of Comments Received

All issues raised, in the substantive responses, by parties to this sunset review are addressed in the Issues and Decision Memorandum for Final Results of Expedited Sunset Review of the Countervailing Duty Orders on Polyethylene Terephthalate Film, Sheet, and Strip from India, from Stephen J. Claeys, Deputy Assistant Secretary for Import Administration, to David M. Spooner, Assistant Secretary for Import Administration, dated concurrently with this notice (Decision Memorandum), which is hereby adopted by this notice. The issues discussed in the Decision Memorandum include the likelihood of continuation or recurrence of a countervailable subsidy, the net countervailable subsidy rate likely to prevail if the order were revoked and the nature of the subsidy. Parties can find a complete discussion of all issues raised in these sunset reviews and the corresponding recommendation in this public memorandum, which is on file in the Import Administration Central Records Unit, Room B-099 of the main Commerce building. In addition, a complete version of the Decision Memo can be accessed directly on the Department's Web page at http://ia.ita.doc.gov/frn. The paper copy and electronic version of the Decision Memorandum are identical in content.

Final Results of Review

The Department determines that revocation of the countervailing duty order on PET Film from India would be likely to lead to continuation or recurrence of countervailable subsidies at the following subsidy rates:

Manufacturers/exporters | Subsidy rate (percent ad valorem)
Ester Industries Ltd | 27.39
Garware Polyester Ltd | 33.44
Polyplex Corporation Ltd | 22.71
All Others | 29.36

International Trade Commission (ITC) Notification

In accordance with section 752(b)(3) of the Act, we will notify the ITC of the final results of this expedited sunset review.

Administrative Protective Orders

This notice also serves as the only reminder to parties subject to administrative protective orders (APO) of their responsibility concerning the return or destruction of proprietary information disclosed under APO in accordance with 19 CFR 351.305. Timely notification of the return or destruction of APO materials or conversion to judicial protective order is hereby requested. Failure to comply with the regulations and terms of an APO is a violation that is subject to sanction.

We are issuing and publishing this determination and notice in accordance with sections 751(c), 752(b), and 777(i) of the Act.

Dated: October 1, 2007.
David M. Spooner,
Assistant Secretary for Import Administration.

[FR Doc. E7-19818 Filed 10-5-07; 8:45 am]

BILLING CODE 3510-DS-P